DEPARTMENT OF ENERGY

Federal Energy Regulatory Commission

Notice of Effectiveness of Exempt Wholesale Generator Status

Wolf Ridge Wind Energy, LLC | EG21-43-000
Blue Summit I Wind, LLC | EG21-44-000
Dickerson Power, LLC | EG21-45-000
Morgantown Power, LLC | EG21-46-000
Morgantown Station, LLC | EG21-47-000
Water Strider Solar, LLC | EG21-48-000
325MK 8ME LLC | EG21-49-000
Chalk Point Power, LLC | EG21-50-000
Flat Ridge 2 Wind Energy LLC | EG21-51-000
Harry Allen Solar Energy LLC | EG21-52-000
Centerfield Cooper Solar, LLC | EG21-53-000
PGR Lessee O, LLC | EG21-54-000
Dry Lake Solar Holdings LLC | EG21-55-000
HO Clarke II, LLC | EG21-57-000
Indiana Crossroads Wind Farm LLC | EG21-58-000
Wallingford Renewable Energy LLC | EG21-59-000
Topaz II, LLC | EG21-60-000
Braes Bayou Generating, LLC | EG21-61-000
KCE TX 23, LLC | EG21-62-000
Midway-Sunset Cogeneration Company | EG21-63-000

Take notice that during the month of February 2021, the status of the above-captioned entities as Exempt Wholesale Generators became effective by operation of the Commission's regulations. 18 CFR 366.7(a) (2020).

Dated: March 10, 2021.
Kimberly D. Bose,
Secretary.

[FR Doc. 2021-05388 Filed 3-15-21; 8:45 am]

BILLING CODE 6717-01-P